DEPARTMENT OF STATE

[Public Notice 3655]

Culturally Significant Objects Imported for Exhibition Determinations: “Rediscovering Caesarea Philippi, the Ancient City of Pan or The Banias”

AGENCY: Department of State.

ACTION: Notice; correction.

SUMMARY: On December 26, 2000, Notice was published on page 81555 of the Federal Register (Volume 65, Number 248) by the Department of State pursuant to Pub. L. 89-259 relating to the exhibit “Rediscovering Caesarea Philippi, the Ancient City of Pan or The Banias.” The referenced Notice is corrected as follows: In the SUMMARY after “May 5, 2001,” add the following additional venue: “and at the Averett College, Danville, Virginia, from on or about August 15, 2001, to on or about December 31, 2001, is in the national interest.”

FOR FURTHER INFORMATION CONTACT: For further information, including a list of exhibit objects, contact Carol Epstein, Attorney-Adviser, Office of the Legal Adviser, U.S. Department of State (telephone: 202/619-6981). The address is U.S. Department of State, SA-44; 301 4th Street, SW., Room 700, Washington, DC 20547-0001.

Dated: April 30, 2001.
Helena Kane Finn,
Acting Assistant Secretary for Educational and Cultural Affairs, Department of State.

[FR Doc. 01-11415 Filed 5-4-01; 8:45 am]

BILLING CODE 4710-08-U